DEPARTMENT OF COMMERCE

Foreign-Trade Zones Board

[Docket 4-2008]

Foreign-Trade Zone 38—Spartanburg County, SC, Request for Manufacturing Authority, Kittel Supplier USA, Inc., (Automotive Roof/Luggage Racks)

An application has been submitted to the Foreign-Trade Zones Board (the Board) by the South Carolina State Ports Authority, grantee of FTZ 38, pursuant to Section 400.32(b)(1) of the Board's regulations (15 CFR Part 400), requesting authority on behalf of Kittel Supplier USA, Inc. (KSU), to assemble automotive roof/luggage racks under FTZ procedures within FTZ 38. It was formally filed on January 28, 2008.

The KSU facility (25 employees) is located at 201 Commerce Court within the Highway 290 Commerce Park (Site 3) in Duncan, South Carolina. Under FTZ procedures, KSU would assemble up to 2.5 million automotive roof/luggage racks (HTSUS 8708.29) annually for the U.S. market and export. Foreign components that would be used in the assembly activity (up to 100% of total purchases) include: aluminum rails and support legs, plastic support legs, brackets, fasteners and rubber seals (duty rates: free—5.7%).

FTZ procedures would exempt KSU from customs duty payments on the foreign components used in production for export. On domestic shipments transferred in-bond to U.S. automobile assembly plants with subzone status, no duties would be paid on the foreign components within the roof/luggage racks until the finished vehicles are subsequently entered for consumption, at which time the finished automobile duty rate (2.5%) could be applied to the foreign components. For the finished roof/luggage racks withdrawn directly by KSU for customs entry, the finished automotive part rate (2.5%) could be applied to the foreign inputs noted above. The application indicates that the company would also realize duty deferral and certain logistical/supply chain savings.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is April 7, 2008. Rebuttal comments in response to material submitted during the foregoing period may be submitted during the subsequent 15-day period to April 22, 2008.

A copy of the application will be available for public inspection at the Office of the Foreign-Trade Zones Board's Executive Secretary at the address listed above. For further information, contact Pierre Duy, examiner, at: pierre_duy@ita.doc.gov, or (202) 482-1378.

Dated: January 28, 2008.
Andrew McGilvray,
Executive Secretary.

[FR Doc. E8-2283 Filed 2-6-08; 8:45 am]

BILLING CODE 3510-DS-P